DEPARTMENT OF THE INTERIOR

Fish and Wildlife Service

[FWS-R2-ES-2008-N0205; 20124-1113-0000-F2]

Williamson County Regional Habitat Conservation Plan, Williamson County, TX

AGENCY: Fish and Wildlife Service, Interior.

ACTION: Notice of availability: Final Environmental Impact Statement and Final Regional Habitat Conservation Plan.

SUMMARY: Williamson County (Applicant) submitted an application (TE-181840-0) for an incidental take permit (ITP) to cover four species currently listed under the Endangered Species Act of 1973, as amended (Act). The proposed take would occur as a result of proposed road construction, maintenance, and improvement projects; utility construction and maintenance; school development and construction; public or private construction and development; and land clearing within western Williamson County, Texas. We, the U.S. Fish and Wildlife Service (Service), have issued a final Environmental Impact Statement (FEIS) to evaluate the impacts of and alternatives for the possible issuance of an ITP. The Applicant completed a final Regional Habitat Conservation Plan (RHCP), as required by the Act, which provides measures to minimize and mitigate the effects of the proposed taking of covered species and effects to the habitats upon which they depend.

DATES: A final decision on ITP issuance will be made October 16, 2008 or later.

ADDRESSES: Persons wishing to review the FEIS and RHCP may obtain a copy by writing to Mr. Adam Zerrenner, Field Supervisor, U.S. Fish and Wildlife Service, 10711 Burnet Road, Suite 200, Austin, TX 78758; (512) 490-0057. See also “Public Review.”

FOR FURTHER INFORMATION CONTACT: Mr. Bill Seawell at the address and phone in ADDRESSES.

SUPPLEMENTARY INFORMATION: We provide this notice under section 10(c) of the Act (16 U.S.C. 1531 et seq.) and its implementing regulations (50 CFR 17.22) and the National Environmental Policy Act NEPA (42 U.S.C. 4371 et seq.) and its implementing regulations (40 CFR 1506.6).

Section 9 of the Act and Federal regulations prohibit the taking of fish and wildlife species listed as endangered or threatened (16 U.S.C. 1538). Under limited circumstances, the Service may issue permits to authorize incidental take of listed fish or wildlife that is incidental to, and not the purpose of, otherwise lawful activities. Regulations governing incidental take permits for threatened and endangered species are found in 50 CFR 17.32 and 17.22, respectively.

Public Review

Copies of the RHCP and FEIS are available for public review, by appointment, during regular business hours, at the Austin Ecological Services Field Office. The documents may be viewed on the World Wide Web at www.wilcogov.org/wccf.

These documents may also be viewed during regular hours in the reference section of the following Williamson County libraries:

• Cedar Park Public Library—550 Discovery Blvd., Cedar Park, TX 78613

• Florence Public Library—207 E. Main St., Florence, TX 76527

• Georgetown Public Library—408 W. 8th St., Georgetown, TX 78626

• Leander Public Library—1011 S. Bagdad Rd., Leander, TX 78641

• Liberty Hill Public Library—355 Loop 332, Liberty Hill, TX 78642

• Round Rock Public Library—216 E. Main St., Round Rock, TX 78664

• Taylor Public Library—801 Vance St., Taylor, TX 76574

• Teinert Memorial Public Library—337 N. Hwy 95, Bartlett, TX 76511

• Frank Smith, Jr. Library Center, Southwestern University—1001 E. University Ave., Georgetown, TX 78626

• Albert B. Alkek Library, Texas State University—1555 University Blvd., Round Rock, TX 78665

• Cypress Creek Campus, Austin Community College—1555 Cypress Creek Rd., Cedar Park, TX 78613

Copies may also be viewed during normal business hours at the following Williamson County offices:

• County Judge, Williamson County Courthouse, 710 Austin Ave., Georgetown, TX 78626

• Commissioner Pct. 1—401 West Main St., Suite 216, Round Rock, TX 78664

• Parks Department—350 Discovery Blvd., #207, Cedar Park, TX 78613

• Commissioner Pct. 3—3010 Williams Dr., Suite 153, Georgetown, TX 78628

• Commissioner Pct. 4—350 Exchange Blvd., Suite 100, Hutto, TX 78634

Background Information

We received an application for an incidental take permit, which would be for a term of 30 years, from Williamson County and the Williamson County Conservation Foundation. The application included a draft RHCP to satisfy the application requirements for a section 10(a)(1)(B) permit under the Act. The Applicant seeks an ITP for activities described in the RHCP and will implement conservation measures to minimize and mitigate for incidental take of golden-cheeked warbler (Dendroica chrysoparia), black-capped vireo (Vireo atricapilla), Bone Cave harvestman (Texella reyesi), and Coffin Cave mold beetle (Batrisodes texanus) to the maximum extent practicable, and ensure that incidental take will not appreciably reduce the likelihood of the survival and recovery of these species in the wild.

On May 16, 2008, the Service published a notice in the Federal Register (73 FR 28498) announcing receipt of an application for an ITP from Williamson County and the availability of a draft EIS (dEIS) and a draft RHCP for the application. The dEIS analyzed the potential environmental impacts that may result from the Federal action of authorizing incidental take anticipated to occur with implementation of the RHCP, and identified various alternatives. We received a total of 6 comments on the dEIS and draft RHCP. A response to each comment received in these letters has been included in the FEIS.

Alternatives

The dEIS considered two alternatives in addition to the proposed project described above: (1) A No Action Alternative, under which no permit would be issued. This alternative would require individuals (rather than the Applicant) to seek authorization through section 10(a)(1)(B) of the Act to address incidental take resulting from their actions in Williamson County or to avoid taking actions that would result in incidental take; (2) A Modified (Reduced Take and Mitigation) RHCP, which would only cover take of the golden-cheeked warbler and Bone Cave harvestman. The amount of authorized take and mitigation would be reduced for both species.

We will evaluate the application, associated documents, and comments submitted to them to prepare a Record of Decision. A permit decision will be made no sooner than 30 days after the publication of the FEIS and completion of the Record of Decision.

Thomas L. Baur,
Acting Regional Director, Southwest Region, Albuquerque, New Mexico.

[FR Doc. E8-21547 Filed 9-15-08; 8:45 am]

BILLING CODE 4310-55-P